DEPARTMENT OF VETERANS AFFAIRS

[OMB Control No. 2900-New—Foreign Medical]

Proposed Information Collection Activity: Proposed Collection; Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments on information needed to claim reimbursement for medical services outside the United States (except Canada and the Philippines) for service-connected disability.

DATES: Written comments and recommendations on the proposed collection of information should be received on or before August 4, 2003.

ADDRESSES: Submit written comments on the collection of information to Ann Bickoff, Veterans Health Administration (193B1), Department of Veterans Affairs, 810 Vermont Avenue, NW., Washington, DC 20420 or e-mail ann.bickoff@mail.va.gov. Please refer to “OMB Control No. 2900-New—Foreign Medical” in any correspondence.

FOR FURTHER INFORMATION CONTACT: Ann Bickoff at (202) 273-8310.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title and Form Number: Claim Cover Sheet for Foreign Medical Program, VA Form 10-7959f.

OMB Control Number: 2900-New—Foreign Medical.

Type of Review: New collection.

Abstract: VA Form 10-7959f will be used for submitting claims for payment/reimbursement of expenses related to veterans who are residing or traveling overseas (except for Canada and the Philippines) with a service-connected disability. The form outlines the basic veteran information necessary for consideration of claims for reimbursement. Use of this form by providers or veteran is optional. VA accepts provider generated billing statement, Uniform Billing-Forms (UB) 92, HCFA 1500, Medicare Health Insurance Claims Form. This information collection is needed to carry out the health care benefits allowed by the Foreign Medical Program.

Affected Public: Individuals or households, Business or other for profit, and Not for profit institutions.

Estimated Total Annual Burden: 3,652 hours.

Estimated Average Burden Per Respondent: 11 minutes.

Frequency of Response: On occasion.

Estimated Number of Respondents: 1,660.

Estimated Total Annual Responses: 19,920.

Dated: May 20, 2003.
By direction of the Secretary:
Martin L. Hill,
Acting Director, Records Management Service.

[FR Doc. 03-13895 Filed 6-2-03; 8:45 am]

BILLING CODE 8320-01-P